DEPARTMENT OF TRANSPORTATION

Federal Aviation Administration

14 CFR Part 71

[Docket No. FAA-2010-1171; Airspace Docket No. 10-ASW-16]

Amendment of Class D Airspace; Corpus Christi, TX

AGENCY: Federal Aviation Administration (FAA), DOT.

ACTION: Final rule; correction.

SUMMARY: This action corrects the geographic coordinates in the regulatory text of a final rule that was published in the Federal Register June 2, 2011, amending Class D airspace at Cabaniss Navy Outlying Field (NOLF), Corpus Christi, TX.

DATES: Effective date: 0901 UTC August 25, 2011.

FOR FURTHER INFORMATION CONTACT: Scott Enander, Central Service Center, Operations Support Group, Federal Aviation Administration, Southwest Region, 2601 Meacham Blvd., Fort Worth, TX 76137; telephone (817) 321-7716.

SUPPLEMENTARY INFORMATION:

History

On June 2, 2011, the FAA published in the Federal Register a final rule amending Class D airspace at Cabaniss NOLF, Corpus Christi, TX (76 FR 31821, Docket No. FAA-2010-1171). Subsequent to publication, an error was discovered in the latitude coordinates listed in the regulatory text. This action corrects that error. Class D airspace designations are published in paragraph 5000 of FAA Order 7400.9U dated August 18, 2010, and effective September 15, 2010, which is incorporated by reference in 14 CFR Part 71.1. The Class D airspace designations listed in this document will be published subsequently in the Order.

Correction to Final Rule

Accordingly, pursuant to the authority delegated to me, the latitude coordinates listed in the regulatory text for the Class D airspace area at Cabaniss NOLF, Corpus Christi, TX, as published in the Federal Register June 2, 2010 (76 FR 31821), (FR Doc. 2011-13559), are corrected as follows:

ASW TX D Corpus Christi, TX [Corrected]

Cabaniss NOLF, TX

On page 31822, column 1, line 49 of the regulatory text, remove `lat. 27°38′15″ N.,' and insert `lat. 27°38′16″ N.'; and on line 50 remove `lat. 27°41′30″ N.,' and insert `lat. 27°41′22″ N.'

Issued in Fort Worth, Texas, on August 2, 2011.
Walter L. Tweedy,
Acting Manager, Operations Support Group, ATO Central Service Center.

[FR Doc. 2011-20303 Filed 8-9-11; 8:45 am]

BILLING CODE 4910-13-P